DEPARTMENT OF ENERGY

Federal Energy Regulatory Commission

Combined Notice of Filings #2

Take notice that the Commission received the following electric rate filings:

Docket Numbers: ER10-1910-001; ER10-1911-001; ER10-1909-001; ER10-1908-001.

Applicants: Duquesne Light Company, Duquesne Power, LLC, Duquesne Keystone, LLC, Duquesne Conemaugh, LLC.

Description: Notice of Change in Status of Duquesne Light Company, et al.

Filed Date: 6/7/12.

Accession Number: 20120607-5086.

Comments Due: 5 p.m. ET 6/28/12.

Docket Numbers: ER10-2578-008.

Applicants: Fox Energy Company, LLC.

Description: Triennial Market Power Analysis of Fox Energy Company, LLC.

Filed Date: 6/7/12.

Accession Number: 20120607-5078.

Comments Due: 5 p.m. ET 8/6/12.

Docket Numbers: ER12-1587-001.

Applicants: Northeastern Power Company.

Description: Reactive Power Rate Schedule Compliance Filing to be effective 6/1/2012.

Filed Date: 6/7/12.

Accession Number: 20120607-5077.

Comments Due: 5 p.m. ET 6/28/12.

Docket Numbers: ER12-1880-001.

Applicants: Minco Wind III, LLC.

Description: Minco Wind III, LLC submits tariff filing per 35.17(b): Amendment to Minco Wind III, LLC MBR Application to be effective 7/30/2012.

Filed Date: 6/7/12.

Accession Number: 20120607-5109.

Comments Due: 5 p.m. ET 6/28/12.

Docket Numbers: ER12-1972-001.

Applicants: California Independent System Operator Corporation.

Description: California Independent System Operator Corporation submits tariff filing per 35.17(b): 2012-06-07 Errata to 7 Day Advance Outage Reporting Amendment to be effective 8/5/2012.

Filed Date: 6/7/12.

Accession Number: 20120607-5108.

Comments Due: 5 p.m. ET 6/28/12.

Docket Numbers: ER12-1974-000.

Applicants: Southwest Power Pool, Inc.

Description: Revisions to Protocols in Attachment H Addendum 14—Midwest Energy, Inc. to be effective 2/22/2012.

Filed Date: 6/7/12.

Accession Number: 20120607-5056.

Comments Due: 5 p.m. ET 6/28/12.

Docket Numbers: ER12-1975-000.

Applicants: Santa Maria Cogen, Inc.

Description: Cancellation of MBR Tariff—Santa Maria to be effective 6/8/2012.

Filed Date: 6/7/12.

Accession Number: 20120607-5099.

Comments Due: 5 p.m. ET 6/28/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 7, 2012.
Nathaniel J. Davis, Sr.,
Deputy Secretary.

[FR Doc. 2012-15139 Filed 6-20-12; 8:45 am]

BILLING CODE 6717-01-P